DEPARTMENT OF LABOR

Employment and Training Administration

[TA-W-81,815]

Hartford Financial Services Group, Inc., Commercial/Actuarial/Information Delivery Services (IDS)/Corporate & Financial Reporting Group, Hartford, CT; Notice of Affirmative Determination Regarding Application for Reconsideration

By application dated September 17, 2012, a state workforce representatives requested administrative reconsideration of the negative determination regarding workers' eligibility to apply for Trade Adjustment Assistance (TAA) applicable to workers and former workers of Hartford Financial Services Group, Inc., Commercial/Actuarial/Information Delivery Services (IDS)/Corporate & Financial Reporting group, Hartford, Connecticut (The Hartford-IDS Group). The determination was issued on August 2, 2012. The determination was corrected on September 19, 2012 to clarify the basis for the negative determination.

The Hartford-IDS Group is engaged in activities related to the supply of financial services. Specifically, the workers provide business and information technology applications for corporate, regulatory, and financial reporting. The group develops databases for creating reports for corporate, regulatory, and financial services. The group is separately identifiable from other groups at the firm.

The initial investigation resulted in a negative determination based on the findings that with respect to Section 222(a) and Section 222(b) of the Act, Criterion (1) has not been met because a significant number or proportion of the workers in such workers' firm have not become totally or partially separated, nor are they threatened to become totally or partially separated.

Significant number or proportion of the workers means that: (a) In most cases the total or partial separations, or both, in a firm or appropriate subdivision thereof, are the equivalent to a total unemployment of five percent (5 percent) of the workers or 50 workers, whichever is less; or (b) At least three workers` in a firm (or appropriate subdivision thereof) with a work force of fewer than 50 workers would ordinarily have to be affected (29 CFR 90.2).

The request for reconsideration states that “The Hartford Financial Services employs nearly 10,000 employees in Connecticut. The majority work full-time hours and are employed at the 690 Asylum Ave, Hartford, Connecticut site, the location of the petition in question * * * According to a former employee for whom the 81,815 was filed, his Unit was an independent unit isolated from others, but the information prepared by his unit, the database, was used by many units within The Hartford. His particular Unit encompassed roughly 75 employees. While only a few workers have been laid off to date in the specific unit, the database was used by many units, including units that have been TAA-certified.”

The Department has carefully reviewed the request for reconsideration and the existing record, and will conduct further investigation to clarify the subject worker group and to determine if workers have met the eligibility requirements of the Trade Act of 1974, as amended.

Conclusion

After careful review of the application, I conclude that the claim is of sufficient weight to justify reconsideration of the U.S. Department of Labor's prior decision. The application is, therefore, granted.

Signed at Washington, DC, this 4th day of December 2012.
Elliott S. Kushner,
Certifying Officer, Office of Trade Adjustment Assistance.

[FR Doc. 2012-31665 Filed 1-3-13; 8:45 am]

BILLING CODE 4510-FN-P